DEPARTMENT OF LABOR

Employment and Training Administration

Workforce Investment Act (WIA) Financial Reporting Requirements for the National Farmworker Jobs Program, Under Title I of the Act

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Employment and Training Administration (ETA) is soliciting comments concerning the proposed extension and revision to the financial reporting requirements for the National Farmworker Jobs Program.

DATES: Written comments must be submitted to the office listed in the addressee's section below on or before July 1, 2005.

ADDRESSES: Ms. Isabel Danley, Office of Grants and Contract Management, Employment and Training Administration, United States Department of Labor, 200 Constitution Avenue, NW., Room N-4720, Washington, DC 20210, (202) 693-3047 (this is not a toll-free number), danley.isabel@dol.gov, and/or FAX (202) 693-3362.

FOR FURTHER INFORMATION CONTACT: Ms. Isabel Danley, Office of Grants and Contract Management, Employment and Training Administration, United States Department of Labor, 200 Constitution Avenue, NW., Washington, DC 20210, (202) 693-3047 (this is not a toll-free number), danley.isabel@dol.gov, and/or FAX (202) 693-3362. Copies of the Paperwork Reduction Act Submission Package may be found at the Web site http://www.doleta.gov/Performance/guidance/OMBControlNumber.cfm.

SUPPLEMENTARY INFORMATION:

I. Background

This proposed information collection notice is requesting a revision to the financial reporting collection format for the WIA National Farmworker Jobs Program as approved in Office of Management and Budget (OMB) Notice of Action Number 1205-0428 (ETA Form Number 9092). The basic financial reporting requirements for this program are set forth in Public Law 105-220, dated August 7, 1998, and 20 CFR 652, et al., Workforce Investment Act Final Rules, dated August 11, 2000. The proposed revised format has been designed to ensure compliance with the Federal Financial Assistance Management Improvement Act of 1999 (Public Law 106-107), as well as Public Law 105-220, dated August 7, 1998, Title I, Subtitle D, Section 166 and Subtitle E, Section 184. Pursuant to Public Law 106-107, Federal awarding agencies have jointly developed a standard Federal Financial Report (FFR) which is currently pending OMB final clearance. The preamble language states that agencies seeking renewal of existing agency/program specific forms, prior to January 31, 2005, may only obtain approval from OMB through January 31, 2005; and agencies wishing to use or continue using agency/program-specific forms, must obtain approval from OMB. ETA Form 9092, which expired October 31, 2004, has been granted an extension for use through May 31, 2005, per OMB Notice of Action, dated February 28, 2005. The Department has been extremely proactive in preparing to implement the government-wide streamlining efforts mandated by Public Law 106-107. This proposed collection request is pursuant to those efforts. It should also be noted that the National Farmworker Jobs Program requires the following three financial break-outs which are not on the standard FFR: Total Administrative Outlays, Related Assistance Outlays, and Other Program Services Outlays. This further necessitates approval of a modified FFR for the National Farmworker Jobs Program.

II. Desired Focus of Comments

Currently, the Department is soliciting comments concerning the proposed revision of a currently approved collection of the WIA financial reporting requirements for the National Farmworker Jobs Program to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information clearance request (ICR) can be obtained directly through the Web site http://www.doleta.gov/Performance/guidance/OMBControlNumber.cfm or by contacting the office listed above in the addressee section of this notice.

III. Current Actions

Type of Review: Revision of a currently approved collection.

Agency: Employment and Training Administration

Title: Workforce Investment Act Financial Reporting Requirements for National Farmworker Jobs Program, under Title I of the Act.

OMB Number: 1205-0428.

Agency Numbers: Revision to ETA 9092.

Affected Public: State agencies, local governments, other for profit and non-profit organizations, and consortia of any and/or all of the above.

Total Respondents: 53.

Frequency: Quarterly.

DOL-ETA Reporting Burden for WIA Title I—NFJP Grantees
Requirements | PY 2004 | PY 2005 | PY 2006
Number of Reports Per Entity Per Quarter | 3 | 3 | 3
Total Number of Reports Per Entity Per Year | 12 | 12 | 12
Number of Hours Required Per Report | 1 | 1 | 1
Total Number of Hours Required for Reporting Per Entity Per Year | 12 | 12 | 12
Number of Entities Reporting | 53 | 53 | 53
Total Number of Hours Required for Reporting Burden Per Year | 636 | 636 | 636
Total Burden Cost @ $28.51 per hour * | 18,132 | $18,132 | $18,132
*$28.51 per hour is based on a GS 12 Step 1 salary.

Note: Number of reports required per entity per quarter/per year is impacted by the 3 year life of each year of appropriated funds.

Comments submitted in response to this notice will be summarized and/or included in the request for OMB approval of the ICR; they will also become a matter of public record.

Dated: April 25, 2005.
Emily Stover DeRocco,
Assistant Secretary for Employment and Training.

[FR Doc. E5-2074 Filed 4-29-05; 8:45 am]

BILLING CODE 4510-30-P